DEPARTMENT OF HEALTH AND HUMAN SERVICES

National Institutes of Health

Office of the Director, National Institutes of Health: Notice of Meeting

Pursuant to section 10(a) of the Federal Advisory Committee Act, as amended (5 U.S.C. App.), notice is hereby given of a meeting of the Advisory Committee to the Deputy Director for Intramural Research, National Institutes of Health.

The meeting will be held as a virtual meeting and is open to the public as indicated below. Individuals who plan to view the virtual meeting and need special assistance, such as sign language interpretation or other reasonable accommodations, should notify the Contact Person listed below in advance of the meeting. The meeting will be videocast and can be accessed from the National Institutes of Health (NIH) Zoom website https://nih.zoomgov.com/j/1605463562?pwd=TEgwWE9TNTlqUGg5THFhbDhPWHJzUT09.

Name of Committee: Advisory Committee to the Deputy Director for Intramural Research, National Institutes of Health.

Date: February 2, 2023.

Time: 10:00 a.m. to 4:00 p.m., EST.

Agenda: The meeting will include a discussion of recruitment and retention of trainees and barriers thereto.

Place: National Institutes of Health, 1 Center Drive, Building 1, Room 160, Bethesda, MD 20892 (Zoom Meeting).

This meeting is a virtual meeting via Zoom and can be accessed at: https://nih.zoomgov.com/j/1605463562?pwd=TEgwWE9TNTlqUGg5THFhbDhPWHJzUT09.

Meeting ID: 160 546 3562

Passcode: 448469

Dial by your location

+1 669 254 5252 US (San Jose)

+1 646 828 7666 US (New York)

+1 551 285 1373 US

+1 669 216 1590 US (San Jose)

Join by SIP: sip: 1605463562@sip.zoomgov.com.

Join by H.323

161.199.138.10 (US West)

161.199.136.10 (US East)

Meeting ID: 160 546 3562

Passcode: 448469

Contact Person: Margaret McBurney, Management Analyst, Office of the Deputy Director for Intramural Research, National Institutes of Health, 1 Center Drive, Room 160, Bethesda, MD 20892-0140, (301) 496-1921, mmcburney@od.nih.gov.

Any interested person may file written comments with the committee by forwarding the statement to the Contact Person listed on this notice. The statement should include the name, address, telephone number and when applicable, the business or professional affiliation of the interested person.

Information is also available on the Office of Intramural Research home page: https://oir.nih.gov/sourcebook.

Dated: January 4, 2023.
David W. Freeman,
Program Analyst, Office of Federal Advisory Committee Policy.

[FR Doc. 2023-00217 Filed 1-9-23; 8:45 am]

BILLING CODE 4140-01-P